SOCIAL SECURITY ADMINISTRATION

[Docket No. SSA-2020-0060]

Notice Announcing Addresses for Service of Process

AGENCY: Social Security Administration.

ACTION: Notice; correction.

SUMMARY: We published notices in the Federal Register on October 28, 2019, March 2, 2020, and August 27, 2020, which announced the addresses for service of process. These documents contained the incorrect suite number in the address for the Office of the Regional Chief Counsel, Region VI, Social Security Administration. We are correcting the suite number in this notice.

FOR FURTHER INFORMATION CONTACT: Michael Haar, Office of the General Counsel, Office of Program Law, Social Security Administration, 6401 Security Boulevard, Baltimore, MD 21235-6404, (410) 965-2521. For information on eligibility or filing for benefits, call our national toll-free number, 1-800-772-1213 or TTY 1-800-325-0778, or visit our internet site, Social Security Online, at http://www.socialsecurity.gov.

SUPPLEMENTARY INFORMATION:

Correction

In the Federal Register of October 28, 2019 in FR Doc. 2019-23478, on page 57801, in the second column, correct the address for the Office of the Regional Chief Counsel, Region VI, Social Security Administration to 1301 Young Street, Ste. 350, Mailroom 104, Dallas, TX 75202-5433.

In the Federal Register of March 2, 2020 in FR Doc. 2020-04246, on page 12373, in the first column, correct the address for the Office of the Regional Chief Counsel, Region VI, Social Security Administration to 1301 Young Street, Ste. 350, Mailroom 104, Dallas, TX 75202-5433.

In the Federal Register of August 27, 2020 in FR Doc. 2020-18898, on page 53059, in the third column, correct the address for the Office of the Regional Chief Counsel, Region VI, Social Security Administration to 1301 Young Street, Ste. 350, Mailroom 104, Dallas, TX 75202-5433.

The Commissioner of the Social Security Administration, Andrew Saul, having reviewed and approved this document, is delegating the authority to electronically sign this document to Faye I. Lipsky, who is the primary Federal Register Liaison for SSA, for purposes of publication in the Federal Register.

Faye I. Lipsky,
Federal Register Liaison, Office of Legislation and Congressional Affairs, Social Security Administration.

[FR Doc. 2020-26294 Filed 11-27-20; 8:45 am]

BILLING CODE 4191-02-P